DEPARTMENT OF THE INTERIOR

Fish and Wildlife Service

[Docket No. FWS-R1-ES-2011-0009; 10120-1113-0000-C3]

Nonessential Experimental Populations of Gray Wolves in the Northern Rocky Mountains; Lethal Take of Wolves in the Lolo Elk Management Zone of Idaho; Draft Environmental Assessment

AGENCY: Fish and Wildlife Service, Interior.

ACTION: Notice of availability; request for comments.

SUMMARY: We, the U.S. Fish and Wildlife Service (Service), announce the availability of a draft environmental assessment (EA) of the Idaho Department of Fish and Game's (IDFG) proposal to lethally take wolves in the Lolo Elk Management Zone of north-central Idaho in response to impacts on elk populations. IDFG's proposal was submitted under the Endangered Species Act (ESA) and our special regulations under the ESA for the central Idaho and Yellowstone area nonessential experimental populations of gray wolves in the Northern Rocky Mountains. The draft EA describes the environmental effects of two alternatives: (1) The preferred alternative, which would approve the IDFG proposal to reduce the wolf population in the Lolo Elk Management Zone to a minimum of 20 to 30 wolves, in 3 to 5 packs, for a period of 5 years, in response to impacts on elk populations; and (2) a no-action alternative, which would deny the proposal to reduce the wolf population in the Lolo Elk Management Zone. Under the no-action alternative, wolves in the Lolo Elk Management Zone would continue to be managed as a nonessential experimental population and could be removed by the Service or its designated agents when livestock, stock animals, or dogs are killed by wolves.

DATES: To ensure consideration, we must receive your written comments on the draft EA no later than March 14, 2011. Please note that if you are using the Federal eRulemaking Portal (see ADDRESSES section, below), the deadline for submitting an electronic comment is 11:59 p.m. Eastern Time on this date.

ADDRESSES: Documents: The draft EA is available electronically at http://www.fws.gov/idaho/ or http://www.regulations.gov (under Docket number FWS-R1-ES-2011-0009). Alternatively, you may request the document by writing to: Idaho State Supervisor, Attn: Lolo Wolf 10(j) proposal, Idaho Fish and Wildlife Office, 1387 South Vinnell Way, Suite 368, Boise, ID 83709-1657.

Comments: Before submitting comments, see the Public Availability of Comments section, below, for important information regarding privacy and personal identifying information in your comments. Comments and materials received will be available for public inspection, by appointment, during normal business hours at the Idaho Fish and Wildlife Office address. You may submit information by one of the following methods:

Federal eRulemaking Portal: http://www.regulations.gov. In the box that reads “Enter Keyword or ID,” enter the Docket number for this finding, which is FWS-R1-ES-2011-0009. Check the box that reads “Open for Comment/Submission,” and then click the Search button. You should then see an icon that reads “Submit a Comment.” Please ensure that you have found the correct document before submitting your comment.

U.S. mail or hand-delivery: Public Comments Processing, Attn: FWS-R1-ES-2011-0009; Division of Policy and Directives Management; U.S. Fish and Wildlife Service; 4401 N. Fairfax Drive, Suite 222; Arlington, VA 22203.

We will post all information we receive on http://www.regulations.gov. This generally means that we will post any personal information you provide us (see the Public Availability of Comments section below for more details).

FOR FURTHER INFORMATION CONTACT: Brian Kelly, Idaho State Supervisor, U.S. Fish and Wildlife Service, Idaho Fish and Wildlife Office (see ADDRESSES above), at 208-378-5243; or brian_t_kelly@fws.gov (e-mail). Individuals who are hearing impaired or speech impaired may call the Federal Information Relay Service (FIRS) at 800-877-8339.

SUPPLEMENTARY INFORMATION:

Background

We are evaluating whether or not to authorize lethal take of wolves in an ESA-designated nonessential experimental population in the Lolo Elk Management Zone (Lolo Zone) in the State of Idaho. The Lolo Zone is 1 of 29 elk-management zones in Idaho. The proposed action is in response to a proposal from the Idaho Department of Fish and Game (IDFG) to reduce gray wolf predation on the wild elk population in the Lolo Zone for a period of 5 years.

In 1974, Northern Rocky Mountain gray wolves (Canis lupus irremotus), as well as three other gray wolf subspecies, were listed as endangered under the authority of the Endangered Species Act of 1973 (ESA; U.S.C. 1531 et seq.) (January 4, 1974; 39 FR 1171). In 1978, the List was updated to reflect new taxonomic information related to gray wolf subspecies, and also the fact that all gray wolf subspecies in the coterminous United States and Mexico were threatened or endangered (43 FR 9607).

ESA Amendments of 1982 (Pub. L. 97-304) made significant changes to the ESA, including the creation of section 10(j), which provides for the designation of specific populations of listed species as “experimental.” Under previous authorities in the ESA, the U.S. Fish and Wildlife Service (Service) was permitted to reintroduce a listed species into unoccupied portions of its historical range for conservation and recovery purposes. However, in some cases, local opposition to reintroduction efforts from parties concerned about potential restrictions under sections 7 and 9 of the ESA, made reintroductions contentious or even socially unacceptable.

Under ESA section 10(j), a listed species reintroduced outside of its current range—but within its historical range—may be designated, at the discretion of the Secretary of the Interior, as “experimental.” This designation increases the Service's flexibility and discretion in managing reintroduced endangered species, because the Service treats experimental populations as threatened species (with a few exceptions) and may promulgate special regulations for threatened species that provide exceptions to the take prohibitions under section 9 of the ESA.

On November 22, 1994, we designated portions of Idaho, Montana, and Wyoming as two nonessential experimental population areas for the gray wolf under section 10(j) of the ESA: The Yellowstone Experimental Population Area (59 FR 60252) and the Central Idaho Experimental Population Area (59 FR 60266). These designations, which are found in the Code of Federal Regulations (CFR) at 50 CFR 17.40(i), assisted us in initiating gray wolf reintroduction projects in central Idaho and in the Greater Yellowstone Area (GYA). At that time, special regulations under section 10(j) allowed, among other things, livestock producers to lethally remove wolves in the act of killing, wounding, or biting livestock, and allowed the Service to lethally remove problem wolves. The 1994 designation did not contemplate removing wolves to protect wild game species.

After being reintroduced to central Idaho in 1995 and 1996 as a nonessential experimental population under section 10(j) of the ESA, wolves achieved biological recovery objectives in 2002. Following biological recovery, the 1994 ESA 10(j) rule was amended in 2005 to give State and Tribal governments a role in gray wolf management under Service-approved wolf management plans and to allow lethal take of wolves in response to “unacceptable impacts” to wild ungulate populations (70 FR 1286). The 10(j) rule was amended again in 2008 to clarify the definition of “unacceptable impact” and the factors the Service must consider when a State or Tribe requests an exception from the take prohibitions of the ESA in response to wolf impacts on wild ungulate populations (73 FR 4720).

Under the 2008 10(j) rule, States or Tribes may lethally take wolves within the experimental population if wolf predation is having an unacceptable impact on wild ungulate populations (deer, elk, moose, bighorn sheep, mountain goats, antelope, or bison) as determined by the respective State or Tribe, provided that the State or Tribe prepares a science-based document that: (1) Describes the basis of ungulate population or herd management objectives, which data indicate that the ungulate population or herd is below management objectives, which data indicate that wolves are a major cause of the unacceptable impact to the ungulate population or herd, why wolf removal is a warranted solution to help restore the ungulate population or herd to State or Tribal management objectives, the level and duration of wolf removal being proposed, and how ungulate population or herd response to wolf removal will be measured and control actions adjusted for effectiveness; (2) demonstrates that attempts were and are being made to address other identified major causes of ungulate herd or population declines, or the State or Tribe commits to implement possible remedies or conservation measures in addition to wolf removal; and (3) provides for an opportunity for peer review and public comment on their proposal prior to submitting it to the Service for written concurrence. In conducting peer review, the State or Tribe must: (i) Conduct the peer review process in conformance with the Office of Management and Budget's Final Information Quality Bulletin for Peer Review (70 FR 2664), and include in their proposal an explanation of how the Bulletin's standards were considered and satisfied; and (ii) obtain at least five independent peer reviews from individuals with relevant expertise; these individuals must not be staff employed by the State, Tribal, or Federal agency directly or indirectly involved with predator control or ungulate management in Idaho, Montana, or Wyoming.

Before authorizing lethal removal of wolves in response to “unacceptable” wild ungulate impacts, the Service must determine whether an unacceptable impact to wild ungulate populations or herds has occurred. We also must determine that the proposed lethal removal is science based, will not contribute to reducing the wolf population in the State below 20 breeding pairs and 200 wolves, and will not impede wolf recovery.

Draft Environmental Assessment

We are announcing the availability of a draft Environmental Assessment (EA) that was prepared to evaluate potential environmental effects associated with our authorization or denial of IDFG's proposal to lethally take wolves in the Lolo Zone in an effort to reduce wolf populations to a minimum of 20 to 30 wolves in 3 to 5 packs and reduce predation pressure on the elk population in that zone. A No Action and Preferred Action are described, and the environmental consequences of each alternative are analyzed.

No-Action Alternative (Deny Requested Authorization). Under the No-Action Alternative, the Service would deny IDFG's 10(j) proposal to remove wolves in the Lolo Elk Management Zone, and current management direction for wolves would continue. In the Lolo Elk Management Zone, wolves would be managed by the Service or their designated agent and could be removed when livestock, stock animals, or dogs are killed by wolves as currently provided for in the 2008 10(j) rule (73 FR 4720, January 28, 2008). The No-Action Alternative management strategy would not include lethal removal of wolves in response to predation on wild ungulate populations.

The No-Action Alternative would continue to allow management activities by State and Tribal governments to address major causes of elk declines other than wolf predation. Past management activities have included changes in elk hunting seasons and harvest strategies, changes in black bear and mountain lion seasons to address low calf survival, and efforts to improve elk habitat. These management activities would not be affected under the No-Action Alternative.

Preferred Alternative (Approve Requested Authorization). Under the preferred alternative, the Service would approve the IDFG 10(j) proposal to remove wolves in the Lolo Elk Management Zone to reduce wolf predation on elk populations over a 5-year period. This alternative would provide an adaptive management strategy to reduce the wolf population. Wolves would be removed to manage for a minimum of 20 to 30 wolves in 3 to 5 packs. Based on the 2009 year-end wolf population estimate of 76 wolves residing in the Lolo Elk Management Zone, the initial removal is estimated to be a minimum of 40 to 50 wolves. Levels of wolf removal in subsequent years are expected to be lower, and would be based on wolf population monitoring. Management activities would be intended to protect the elk population in the Lolo Elk Management Zone while maintaining wolf populations that meet recovery objectives. This alternative includes monitoring both wolf and elk populations yearly to determine elk response to the implementation of management activities and whether adaptive changes in wolf removal are needed based on yearly monitoring results.

Wolf removal would be accomplished by IDFG personnel and other approved agents of the State of Idaho. Wolves that inhabit the Lolo Elk Management Zone would be targeted for removal. Removal would be accomplished using legal means approved by the Service under provisions of the Service's 2008 10(j) rule. Wolf control will occur through shooting from aircraft or from the ground, or by capture with foothold traps or snares followed by euthanasia. IDFG is not proposing to use poison or other chemical means to control wolves. The goal of the removal would be to reduce pack sizes and, when appropriate, to remove entire packs. The primary removal effort would occur during the winter months. Most wolf control would occur on U.S. Forest Service lands outside of designated wilderness. IDFG is not proposing to use aircraft to remove wolves from within designated wilderness. Wolf carcasses would be recovered from the field, when possible, and processed for collection of biological data. Hides and skulls would be used for educational purposes.

Next Steps

After the comment period ends, we will analyze comments received and determine whether to: (1) Prepare a final EA and Finding of No Significant Impact and authorize lethal take of wolves in the Lolo Zone under section 10(j) of the ESA in response to wolf impacts on elk populations, (2) reconsider our preferred alternative and deny IDFG's proposal, or (3) determine that an Environmental Impact Statement should be prepared prior to authorizing or denying IDFG's proposal.

Public Availability of Comments

Before including your address, phone number, e-mail address, or other personal identifying information in your comment, you should be aware that your entire comment—including your personal identifying information—may be made publicly available at any time. While you can ask us in your comment to withhold your personal identifying information from public review, we cannot guarantee that we will be able to do so.

Authorities

The Environmental Review of this project will be conducted in accordance with the requirements of the National Environmental Policy Act (NEPA) of 1969, as amended (42 U.S.C. 4321 et seq.): NEPA Regulations (40 CFR parts 1500-1508); other appropriate Federal laws and regulations; Executive Order 12996; and Service policies and procedures for compliance with those laws and regulations.

Dated: February 4, 2011.
Theresa E. Rabot,
Acting Regional Director, U.S. Fish and Wildlife Service, Portland, Oregon.

[FR Doc. 2011-3064 Filed 2-10-11; 8:45 am]

BILLING CODE 4310-55-P